DEPARTMENT OF COMMERCE

National Oceanic and Atmospheric Administration

[RTID 0648-XB137]

Western Pacific Fishery Management Council; Public Meetings

AGENCY: National Marine Fisheries Service (NMFS), National Oceanic and Atmospheric Administration (NOAA), Commerce.

ACTION: Notice of public meetings.

SUMMARY: The Western Pacific Fishery Management Council (Council) will hold its 140th Scientific and Statistical Committee (SSC), Pelagic and International Standing Committee, Executive and Budget Standing Committee, and 186th Council meetings to take actions on fishery management issues in the Western Pacific Region.

DATES: The meetings will be held between June 15 and June 24, 2021. For specific times and agendas, see SUPPLEMENTARY INFORMATION.

ADDRESSES: The meetings will be held by web conference via WebEx. Instructions for connecting to the web conference and providing oral public comments will be posted on the Council website at www.wpcouncil.org. For assistance with the web conference connection, contact the Council office at (808) 522-8220.

The following venues will be the host sites for the 186th Council meeting: Cliff Pointe, 304 W O'Brien Drive, Hagatna, Guam; BRI Building Suite 205, Kopa Di Oru St., Garapan, Saipan, CNMI; and, Tedi of Samoa Building Suite 208B, Fagatogo Village, American Samoa.

FOR FURTHER INFORMATION CONTACT: Contact Kitty M. Simonds, Executive Director, Western Pacific Fishery Management Council; phone: (808) 522-8220.

SUPPLEMENTARY INFORMATION: All times shown are in Hawaii Standard Time. The 140th SSC meeting will be held between 11 a.m. and 5 p.m. on June 15-17, 2021. The Pelagic and International Standing Committee will be held between 1 p.m. and 3 p.m. on June 21, 2021. The Executive and Budget Standing Committee meeting will be held between 3:30 p.m. and 5:30 p.m. on June 21, 2021. The 186th Council meeting will be held between 11 a.m. and 5 p.m. on June 22-24, 2021.

Please note that the evolving public health situation regarding COVID-19 may affect the conduct of the June Council and its associated meetings. At the time this notice was submitted for publication, the Council anticipated convening the Council meeting by web conference with host site locations in Guam, CNMI and American Samoa. Council staff will monitor COVID-19 developments and will determine the extent to which in-person public participation at host sites will be allowable consistent with applicable local and federal safety and health guidelines. If public participation will be limited to web conference only or on a first-come-first-serve basis consistent with applicable guidelines, the Council will post notice on its website at www.wpcouncil.org.

Agenda items noted as “Final Action” refer to actions that result in Council transmittal of a proposed fishery management plan, proposed plan amendment, or proposed regulations to the U.S. Secretary of Commerce, under Sections 304 or 305 of the MSA. In addition to the agenda items listed here, the Council and its advisory bodies will hear recommendations from Council advisors. An opportunity to submit public comment will be provided throughout the agendas. The order in which agenda items are addressed may change and will be announced in advance at the Council meeting. The meetings will run as late as necessary to complete scheduled business.

Background documents for the 186th Council meeting will be available at www.wpcouncil.org. Written public comments on final action items at the 186th Council meeting should be received at the Council office by 5 p.m. HST, June 18, 2021, and should be sent to Kitty M. Simonds, Executive Director; Western Pacific Fishery Management Council, 1164 Bishop Street, Suite 1400, Honolulu, HI 96813, phone: (808) 522-8220 or fax: (808) 522-8226; or email: info.wpcouncil@noaa.gov. Written public comments on all other agenda items may be submitted for the record by email throughout the duration of the meeting. Instructions for providing oral public comments during the meeting will be posted on the Council website. This meeting will be recorded (audio only) for the purposes of generating the minutes of the meeting.

Agenda for the 140th Scientific and Statistical Committee Meeting

Tuesday, June 15, 2021, 11 a.m. to 5 p.m.

1. Introductions

2. Approval of Draft Agenda and Assignment of Rapporteurs

3. Status of the 139th SSC Meeting Recommendations

4. Report from Pacific Islands Fisheries Science Center Director

5. Program Planning and Research

A. Monitoring of the Commercial and Non-Commercial Uku Fishery

B. 2020 Annual Stock Assessment and Fishery Evaluation (SAFE) Report and Recommendations

1. Archipelagic Report Overview and Highlights

2. Pelagic Report Overview and Highlights

C. Standardized Bycatch Reporting Methodology Review (Action Item)

D. SSC Subgroup Report on Fisheries and Protected Species Resilience to Climate Change

E. SSC Three Year Plan

F. Public Comment

G. SSC Discussion and Recommendations

6. Protected Species

A. Developing Draft Tori Line Specifications for the Hawaii Deep-set Longline Fishery

B. SSC Working Group Issues Paper on Alternative Approaches to Reduce Impacts to False Killer Whales

C. Endangered Species Act (ESA) Integration of Section 7 under MSA

D. ESA Consultations for the Hawaii Deep-set Longline Fishery, American Samoa Longline Fishery, and Bottomfish Fisheries

E. ESA and Marine Mammal Protection Act (MMPA) Updates

F. Public Comment

G. SSC Discussion and Recommendations

Wednesday, June 16, 2021, 11 a.m. to 5 p.m.

7. Pelagic Fisheries

A. Monte Carlo Analyses of Longline Mitigation Measures

B. Oceanic Whitetip Shark Working Group Update

C. Regulatory Amendment: Gear and Release Requirements to Improve Post-Hooking Survivorship of Oceanic Whitetip Sharks in the Longline Fisheries (Action Item)

D. MSA 304(i) Obligations for Western and Central Pacific Silky Shark

E. 2022 US Territorial Bigeye Tuna Catch/Effort Limit & Allocation Specifications (Action Item)

F. Monterey Bay Aquarium Seafood Watch Assessment of the Hawaii Longline Fisheries

G. Analyses of Pacific Island Longline Fisheries in 2020 Comprehensive Bycatch Assessment in US Fisheries

H. International Fisheries

1. Preparations for Western Central Pacific Fisheries Commission (WCPFC) Science Committee

2. Outcomes of WCPFC Tropical Tunas Workshop

I. Public Comment

J. SSC Discussion and Recommendations

Thursday, June 17, 2021, 11 a.m. to 5 p.m.

8. Other Business

A. National Standard 1 Technical Guidance Memorandum on Data Limited Stocks

B. Council Coordinating Committee Area-Based Management Working Group

C. September 14-16, 2021 SSC Meetings Dates

9. Summary of SSC Recommendations to the Council

Agenda for the Pelagic and International Standing Committee

Monday, June 21, 2021, 1 p.m. to 3 p.m.

1. Oceanic Whitetip Shark Working Group Update & Monte Carlo Analyses of Longline Mitigation Measures

2. Regulatory Amendment: Gear and Release Requirements to Improve Post-Hooking Survivorship of Oceanic Whitetip Sharks in Longline Fisheries (Final Action)

3. Territorial Bigeye Tuna Catch Limit and Allocations Pacific

A. 2022 US Territorial Bigeye Tuna Catch/Effort Limit & Allocation Specifications (Final Action)

B. Multi-Year US Territory Longline Bigeye Catch & Allocation Limits (Initial Action)

4. Potential Management for the Western and Central Pacific Silky Shark Under MSA 304(i) Obligations

5. Outcomes of WCPFC Tropical Tunas Workshop

6. Advisory Group Report and Recommendations

7. Other Issues

8. Public Comment

9. Discussion and Recommendations

Agenda for the Executive and Budget Standing Committee

Monday, June 21, 2021, 3:30 p.m. to 5:30 p.m.

1. Financial Reports

2. Administrative Reports

3. Report of the Council Coordination Committee Meeting

4. Council Family Changes

5. Meetings and Workshops

6. Other Issues

7. Public Comment

8. Discussion and Recommendations

Agenda for the 186th Council Meeting

Tuesday, June 22, 2021, 11 a.m. to 5 p.m.

1. Welcome and Introductions

2. Approval of the 186th Agenda

3. Approval of the 185th Meeting Minutes

4. Executive Director's Report

5. Agency Reports

A. National Marine Fisheries Service

1. Pacific Islands Regional Office

2. Pacific Islands Fisheries Science Center

B. NOAA Office of General Counsel Pacific Islands Section

C. Enforcement

1. U.S. Coast Guard

2. NOAA Office of Law Enforcement

3. NOAA Office of General Counsel Enforcement Section

D. U.S. State Department

E. U.S. Fish and Wildlife Service

F. Public Comment

G. Council Discussion and Action

6. Pelagic & International Fisheries

A. Oceanic Whitetip Sharks

1. Oceanic Whitetip Shark Working Group Update & Monte Carlo Analyses of Longline Mitigation Measures

2. Regulatory Amendment: Gear and Release Requirements to Improve Post-Hooking Survivorship of Oceanic Whitetip Sharks in the Longline Fisheries (Final Action)

B. Territorial Bigeye Tuna Catch Limit and Allocations

1. 2022 US Territorial Bigeye Tuna Catch/Effort Limit & Allocation Specifications (Final Action)

2. Multi-Year US Territory Longline Bigeye Catch & Allocation Limits (Initial Action)

C. Potential Management for the Western and Central Pacific Silky Shark Under MSA 304(i) Obligations

D. Monterey Bay Aquarium Seafood Watch Assessment of the Hawaii Longline Fisheries

E. International Fisheries

1. Preparations for WCPFC Science Committee

2. Outcomes of WCPFC Tropical Tunas Workshop

F. Advisory Group Report and Recommendations

1. Advisory Panel

2. Pelagic Plan Team

3. Fishing Industry Advisory Committee

4. Non-Commercial Fishing Advisory Committee

5. Scientific & Statistical Committee

G. Standing Committee Report and Recommendations

H. Public Comment

I. Council Discussion and Action

Tuesday, June 22, 2021, 4:30 p.m. to 5 p.m.

Public Comment on Non-Agenda Items

Wednesday, June 23, 2021, 11 a.m. to 5 p.m.

7. Protected Species

A. Developing Draft Tori Line Specifications for the Hawaii Deep-set Longline Fishery

B. SSC Working Group Issues Paper on Alternative Approaches to Reduce Impacts to False Killer Whales

C. Integration of ESA Section 7 Under MSA

D. ESA Consultations for the Hawaii Deep-set Longline Fishery, American Samoa Longline Fishery, and Bottomfish Fisheries

E. ESA and MMPA Updates

F. Coral Critical Habitat Working Group Update

G. Advisory Group Report and Recommendations

1. Advisory Panel

2. Fishing Industry Advisory Committee

3. Non-Commercial Fishing Advisory Committee

4. Scientific & Statistical Committee

H. Public Comment

I. Council Discussion and Action

8. American Samoa Archipelago

A. Motu Lipoti

B. Department of Marine and Wildlife Resources Report

C. American Samoa Marine Conservation Plan (Action Item)

D. American Samoa Bottomfish Fisheries

1. American Samoa Bottomfish Rebuilding Plan (Final Action)

2. American Samoa Bottomfish Community Development Program Request

E. Advisory Group Report and Recommendations

1. Advisory Panel

2. Fishing Industry Advisory Committee

3. Non-Commercial Fishing Advisory Committee

4. Scientific & Statistical Committee

F. Public Comment

G. Council Discussion and Action

9. Mariana Archipelago

A. Guam

1. Isla Informe

2. Department of Agriculture/Division of Aquatic and Wildlife Resources Report

3. Guam Bottomfish Fishery Management

A. Guam Bottomfish Rebuilding Plan (Final Action)

B. Guam Territorial Bottomfish Fishery Management Plan

B. CNMI

1. Arongol Falú

2. DLNR/DFW Report

C. Advisory Group Report and Recommendations

1. Advisory Panel

2. Fishing Industry Advisory Committee

3. Non-Commercial Fishing Advisory Committee

4. Scientific & Statistical Committee

D. Public Comment

E. Council Discussion and Action

Thursday, June 24, 2021, 11 a.m. to 5 p.m.

10. Program Planning and Research

A. National Standard 1 Technical Guidance Memorandum on Data Limited Stocks

B. Draft Electronic Monitoring Procedural Directive on Applying Information Law

C. National Legislative Report

1. Update on Congressional Actions

2. Update on Executive Orders

a. E.O.14008 on CCC Area-Based Management Working Group

b. E.O. 13985 on Advancing Racial Equity and Support for Underserved Communities

D. Standardized Bycatch Reporting Methods & FEP Amendments for Updating Consistency (Initial Action)

E. Draft 2020 Annual Stock Assessment and Fishery Evaluation (SAFE) Report

1. Archipelagic Report Overview and Highlights

2. Pelagic Report Overview and Highlights

F. Update on Aquaculture Management PEIS

G. Endorsement of the SSC Three-Year Plan

H. Regional Communications & Outreach Report

I. Advisory Group Report and Recommendations

1. Advisory Panel

2. Archipelagic Plan Team

3. Pelagic Plan Team

4. Social Science Planning Committee

5. Fishing Industry Advisory Committee

6. Non-Commercial Fishing Advisory Committee

7. Scientific & Statistical Committee

J. Public Comment

K. Council Discussion and Action

11. Hawai`i Archipelago & Pacific Remote Island Areas (PRIA)

A. Moku Pepa

B. DLNR/DAR Report

C. Main Hawaiian Island Deep 7 Bottomfish Fishery Annual Catch Limits for Fishing Years 2021-23 (Final Action)

D. Monitoring and Managing the Hawaii Uku Fishery

E. Proposed National Marine Sanctuary for the Northwestern Hawaiian Islands

F. Advisory Group Report and Recommendations

1. Advisory Panel

2. Archipelagic Plan Team

3. Fishing Industry Advisory Committee

4. Non-Commercial Fishing Advisory Committee

5. Scientific & Statistical Committee

G. Public Comment

H. Council Discussion and Action

12. Administrative Matters

A. Financial Reports

B. Administrative Reports

C. Report of the Council Coordination Committee Meeting

D. Council Family Changes

E. Meetings and Workshops

F. Standing Committee Report and Recommendations

G. Public Comment

H. Council Discussion and Action

13. Other Business

Non-emergency issues not contained in this agenda may come before the Council for discussion and formal Council action during its 186th meeting. However, Council action on regulatory issues will be restricted to those issues specifically listed in this document and any regulatory issue arising after publication of this document that requires emergency action under section 305(c) of the Magnuson-Stevens Act, provided the public has been notified of the Council's intent to take action to address the emergency.

Special Accommodations

These meetings are accessible to people with disabilities. Requests for sign language interpretation or other auxiliary aids should be directed to Kitty M. Simonds, (808) 522-8220 (voice) or (808) 522-8226 (fax), at least 5 days prior to the meeting date.

Authority: 16 U.S.C. 1801 et seq.

Dated: May 26, 2021.
Tracey L. Thompson,
Acting Deputy Director, Office of Sustainable Fisheries, National Marine Fisheries Service.

[FR Doc. 2021-11450 Filed 5-28-21; 8:45 am]

BILLING CODE 3510-22-P